DEPARTMENT OF HEALTH AND HUMAN SERVICES

Administration for Community Living

Agency Information Collection Activities: Submission for OMB Review; Comment Request; Protection and Advocacy for Assistive Technology (PAAT) Program Performance Report

AGENCY: Administration for Community Living, HHS.

ACTION: Notice.

SUMMARY: The Administration on Intellectual and Developmental Disabilities (AIDD), Administration for Community Living (ACL) is announcing an opportunity to comment on the proposed collection of information by the agency. Under the Paperwork Reduction Act of 1995 (the PRA), Federal agencies are required to publish notice in the Federal Register concerning each proposed collection of information, including each proposed extension of an existing collection of information, and to allow 60 days for public comment in response to the notice. This notice collects comments on the information collection requirements relating to an existing collection: Protection and Advocacy for Assistive Technology (PAAT) Program Performance Report (0985-0046).

DATES: Submit written comments on the collection of information by August 10, 2015.

ADDRESSES: Submit written comments on the collection of information by email to Clare.Barnett@acl.gov.

FOR FURTHER INFORMATION CONTACT: Clare Barnett, Administration for Community Living, Administration on Intellectual and Developmental Disabilities, Office of Program Support, One Massachusetts Avenue NW., Room 4204, Washington, DC 20201, 202-357-3426.

SUPPLEMENTARY INFORMATION: Federal statute requires the Protection and Advocacy (P&A) System in each State to annually prepare and submit to the Secretary a report that includes documentation of the progress made. AIDD reviews the program performance report (PPR) for compliance and for program outcomes. AIDD will aggregate the information in the PPRs into a national profile of programmatic activities and accomplishments, and permit AIDD to track accomplishments against goals and formulate areas of technical assistance and compliance with Federal requirements.

ACL estimates the burden of this collection of information as follows:

Annual Burden Estimates
Instrument | Number of respondents | Number of responses per respondent | Average burden hours per response | Total burden hours
PADD SGP | 57 | 1 | 16 | 912

Estimated Total Annual Burden Hours: 912.

Dated: June 3, 2015.
Kathy Greenlee,
Administrator & Assistant Secretary for Aging.

[FR Doc. 2015-14053 Filed 6-8-15; 8:45 am]

BILLING CODE 4154-01-P